Executive Order 14269 of April 9, 2025

Restoring America's Maritime Dominance

By the authority vested in me as President by the Constitution and the laws of the United States of America, it is hereby ordered:

Section 1. Purpose. The commercial shipbuilding capacity and maritime workforce of the United States has been weakened by decades of Government neglect, leading to the decline of a once strong industrial base while simultaneously empowering our adversaries and eroding United States national security. Both our allies and our strategic competitors produce ships for a fraction of the cost needed in the United States. Recent data shows that the United States constructs less than one percent of commercial ships globally, while the People's Republic of China (PRC) is responsible for producing approximately half.

Rectifying these issues requires a comprehensive approach that includes securing consistent, predictable, and durable Federal funding, making United States-flagged and built vessels commercially competitive in international commerce, rebuilding America's maritime manufacturing capabilities (the Maritime Industrial Base), and expanding and strengthening the recruitment, training, and retention of the relevant workforce.

Sec. 2. Policy. It is the policy of the United States to revitalize and rebuild domestic maritime industries and workforce to promote national security and economic prosperity.

Sec. 3. Maritime Action Plan. (a) Within 210 days of the date of this order, the Assistant to the President for National Security Affairs (APNSA), in coordination with the Secretary of State, the Secretary of Defense, the Secretary of Commerce, the Secretary of Labor, the Secretary of Transportation, the Secretary of Homeland Security, the United States Trade Representative (USTR), and the heads of executive departments and agencies (agencies) the APNSA deems appropriate, shall submit a Maritime Action Plan (MAP) to the President, through the APNSA and the Director of the Office of Management and Budget (OMB Director) to achieve the policy set forth in this order.

(b) The OMB Director, in coordination with the APNSA, shall be responsible for all legislative, regulatory, and fiscal assessments related to the MAP.

(c) The MAP shall, to the extent permissible and consistent with applicable law, including the Buy American Act (41 U.S.C. 8301-8305), reflect actions taken pursuant to sections 4 through 21 of this order.

Sec. 4. Ensure the Security and Resilience of the Maritime Industrial Base. Within 180 days of the date of this order, the Secretary of Defense, in coordination with the Secretary of Commerce, the Secretary of Transportation, and the Secretary of Homeland Security, shall provide to the APNSA and the OMB Director for inclusion in the MAP an assessment of options both for the use of available authorities and resources, such as Defense Production Act Title III authorities, and for the use of private capital to the maximum extent possible to invest in and expand the Maritime Industrial Base including, but not limited to, investment and expansion of commercial and defense shipbuilding capabilities, component supply chains, ship repair and marine transportation capabilities, port infrastructure, and the adjacent workforce. The Secretary of Defense shall pursue using the Office of Strategic Capital loan program to improve the shipbuilding industrial base. As part of their assessment, the Secretary of Commerce, the Secretary of Transportation, and the Secretary of Homeland Security shall:

(a) identify key maritime components in the supply chain that are essential for rebuilding and expanding the Maritime Industrial Base and that should be prioritized for investment;

(b) ensure that their recommendations of public and private investments are made according to a clear metric, derived in consultation with the Assistant to the President for Economic Policy, of return on invested capital for the United States taxpayer and to the economic and national security of the United States; and

(c) ensure that their recommendations take into consideration the projected increases to commercial and defense capabilities, the projected growth in economic activity, and the projected benefits for taxpayers and the workforce.

Sec. 5. Actions in the Investigation of the PRC's Unfair Targeting of Maritime, Logistics, and Shipbuilding Sectors. (a) With respect to the actions, if any, that the USTR determines to take consistent with the USTR's notice of public hearing entitled Proposed Action in Section 301 Investigation of the PRC's Targeting of the Maritime, Logistics, and Shipbuilding Sectors for Dominance, 90 Fed. Reg. 10843 (February 27, 2025), the USTR shall:

(i) coordinate with appropriate agencies to collect additional information, as appropriate and to the extent permitted by law, in support of administering such actions; and

(ii) coordinate with the Attorney General and Secretary of Homeland Security to take appropriate steps to enforce any restriction, fee, penalty, or duty imposed pursuant to such actions.

(b) Based on the USTR's determinations arising out of its Section 301 investigation into the PRC's targeting of the maritime, logistics, and shipbuilding sectors, the USTR shall also consider taking all necessary steps permitted by law to propose the following actions:

(i) tariffs on ship-to-shore cranes manufactured, assembled, or made using components of PRC origin, or manufactured anywhere in the world by a company owned, controlled, or substantially influenced by a PRC national; and

(ii) tariffs on other cargo handling equipment.

Sec. 6. Enforce Collection of Harbor Maintenance Fee and Other Charges. In order to prevent cargo carriers from circumventing the Harbor Maintenance Fee (HMF) on imported goods through the practice of making port in Canada or Mexico and sending their cargo into the United States through land borders, and to ensure the collection of other charges as applicable, the Secretary of Homeland Security shall take all necessary steps, including proposing new legislation, as permitted by law to:

(a) require all foreign-origin cargo arriving by vessel to clear the Customs and Border Protection (CBP) entry process at a United States port of entry for security and collection of all applicable duties, customs, taxes, fees, interest, and other charges; and

(b) ensure any foreign-origin cargo first arriving by vessel to North America clearing the CBP process at an inland location from the country of land transit (Canada or Mexico) is assessed applicable customs, duties, taxes, fees (including the HMF), interest, and other charges plus a 10 percent service fee for additional costs to the CBP, so long as the cargo being shipped into the United States is not substantially transformed from its condition at the time of arrival into the country of land transit (with the discretion for such decisions to be determined by CBP).

Sec. 7. Engage Allies and Partners to Align Trade Policies. Within 90 days of the date of this order, the USTR, in consultation with the Secretary of State and the Secretary of Commerce, shall engage treaty allies, partners, and other like-minded countries around the world with respect to their potential imposition of any actions taken pursuant to sections 5 and 6 of this order. The USTR shall deliver an engagement plan and progress report on these engagements to the President.

Sec. 8. Reduce Dependence on Adversaries through Allies and Partners. Within 90 days of the date of this order, the Secretary of Commerce, in consultation with the Assistant to the President for Economic Policy, shall recommend to the APNSA and the OMB Director for inclusion in the MAP all available incentives to help shipbuilders domiciled in allied nations partner to undertake capital investment in the United States to help strengthen the shipbuilding capacity of the United States.

Sec. 9. Launch a Maritime Security Trust Fund. In conjunction with the formulation of the President's Budget, the OMB Director shall, in coordination with the Secretary of Transportation, develop a legislative proposal, which shall be described in detail in the MAP, to establish a Maritime Security Trust Fund that can serve as a reliable funding source to deliver consistent support for MAP programs. This proposal shall consider how new or existing tariff revenue, fines, fees, or tax revenue could further the goal of establishing a more reliable, dedicated funding source for programs support by the MAP.

Sec. 10. Shipbuilding Financial Incentives Program. In conjunction with the formulation of the President's Budget and consistent with the findings of the report required under section 12 of this order, the Secretary of Transportation shall submit a legislative proposal to the APNSA and the OMB Director, which shall be described in detail in the MAP, that establishes a financial incentives program with broad flexibility to incentivize private investment in the construction of commercial components, parts, and vessels; capital improvements to commercial vessel shipyards; capital improvements to commercial vessel repair facilities and drydocks through grants; and Federal Credit Reform Act-compliant loans and loan guarantees. Such proposal may augment or replace existing programs with similar purpose including the Small Shipyard Grant Program and the Federal Ship Financing (Title XI) Program.

Sec. 11. Establish Maritime Prosperity Zones. Within 90 days of the date of this order, the Secretary of Commerce, in coordination with the Secretary of the Treasury, the Secretary of Transportation, and the Secretary of Homeland Security, shall deliver a plan to the President through the APNSA for inclusion in the MAP that identifies opportunities to incentivize and facilitate domestic and allied investment in United States maritime industries and waterfront communities through establishment of maritime prosperity zones. The proposal shall:

(a) model these maritime prosperity zones on the opportunity zones established pursuant to section 13823 of the Tax Cuts and Jobs Act of 2017 (Public Law 115-97, 131 Stat. 2054), which I signed into law during my first Administration;

(b) include stipulations for appropriate regulatory relief in the establishment of such zones; and

(c) provide for zones that are outside of traditional coastal shipbuilding and ship repair centers and are geographically diverse, including river regions as well as the Great Lakes.

Sec. 12. Report on Maritime Industry Needs. Within 90 days of the date of this order, the Secretary of Transportation, in coordination with the Secretary of Homeland Security and the heads of other agencies as appropriate, shall deliver a report to the OMB Director and APNSA for inclusion in the MAP that inventories Federal programs that could be used to sustain and grow the supply of and demand for the United States maritime industry. The report and inventory shall include:

(a) any Federal programs that provide financial and regulatory incentives for United States shipping, shipbuilding, and shipbuilding supply chains, including the training of shipbuilders and United States-credentialed mariners;

(b) Maritime Administration programs such as the Tanker Security Program, Cable Security Fleet, Maritime Security Programs, Maritime Environmental and Technical Assistance Program, Title XI, Assistance to Small Shipyards, Port Infrastructure Development Program, the United States Merchant Marine Academy (USMMA), and programs that support the State Maritime Academies;

(c) existing domestic cargo preference laws, including the Military Cargo Preference Act of 1904, as amended, (10 U.S.C. 2631) and the Cargo Preference Act of 1954, as amended, (46 U.S.C. 55304), and whether and how they can be used to ensure that United States cargo is transported on United States-built and flagged vessels, including a review of the existing waiver process and all current waivers to ensure they are consistent with the promotion of American domestic shipping;

(d) other available means that could further support the industry, including modifications of existing programs, establishment of new programs, and tax and regulatory relief; and

(e) in coordination with the National Security Council and the Office of Management and Budget, the costs and benefits of increased cargo preference rates, including on liquid cargo carriers, tankers, and military useful vessels, and options for increasing cargo preference compliance and directing open market procurement of shipping to meet urgent military needs for maritime vessels.

Sec. 13. Expand Mariner Training and Education. Within 90 days of the date of this order, the Secretary of State, the Secretary of Defense, the Secretary of Labor, the Secretary of Transportation, the Secretary of Education, and the Secretary of Homeland Security shall deliver a report to the President through the APNSA for inclusion in the MAP with recommendations to address workforce challenges in the maritime sector through maritime educational institutions and workforce transitions.

(a) In preparing their report, the Secretary of State, the Secretary of Defense, the Secretary of Labor, the Secretary of Transportation, the Secretary of Education, and the Secretary of Homeland Security shall consult, as needed, with industry stakeholders including private industry and labor organizations.

(b) The report shall:

(i) include the current number of credentialed mariners and estimate the additional credentialed mariners required to support the policies described in this order;

(ii) analyze the impact of establishing new and expanding existing merchant marine academies as a means of educating, training, and certifying the additional credentialed merchant mariners estimated under subsection (b)(i) of this section;

(iii) identify any requirements for credentialing mariners that are unnecessary, insufficient, or unduly burdensome and provide recommendations for reform;

(iv) inventory existing educational and technical training grants and scholarships to colleges and vocational-technical training institutions for critical shipbuilding specialties and other maritime studies, and provide recommendations for enhancement; and

(v) assess the United States Coast Guard credentialing program applicability to United States Navy Active Duty and Reserve sailors to increase opportunities for sailors to transfer into the Merchant Marine with validated skills.

(c) Consistent with the findings of the report and in conjunction with the formulation of the President's Budget, the Secretary of State, Secretary of Defense, the Secretary of Labor, the Secretary of Transportation, the Secretary of Education, and the Secretary of Homeland Security shall deliver a legislative proposal to the APNSA and the OMB Director that:

(i) reflects the recommendations of the report required under this section;

(ii) establishes national maritime scholarships to send promising maritime experts abroad to learn cutting edge techniques and subjects, such as innovative maritime logistics, clean fuels and advanced nuclear energy, human-machine teaming, and additive manufacturing and other advanced technologies; and

(iii) offers scholarships to maritime experts from allied countries to teach at United States institutions.

Sec. 14. Modernize the United States Merchant Marine Academy. (a) The Secretary of Transportation shall:

(i) within 30 days of this order consistent with applicable law and available appropriations, take action to hire the necessary facilities staff and reprogram budgetary resources needed to execute urgent deferred maintenance projects and any other mission critical repair works at the USMMA;

(ii) take immediate action to finalize a long-term master facilities plan (LMFP) for the modernization of the USMMA campus and submit such plan to the APNSA and OMB Director for concurrence; and

(iii) within 90 days of the concurrence described in subsection (a)(ii) of this section, in consultation with the Department of Government Efficiency, submit a 5-year capital improvement plan (CIP) consistent with the LMFP to the APNSA and OMB Director that includes capital project budgets, schedules, and sequencing, as well as an inventory of deferred maintenance items necessary to sustain campus operations through completion of the CIP.

(b) All actions taken pursuant to this section shall be detailed in the MAP.

Sec. 15. Improve Procurement Efficiency. Within 90 days of the date of this order, the Secretary of Defense, the Secretary of Commerce, the Secretary of Transportation, the Secretary of Homeland Security, and the Director of the National Science Foundation shall develop a proposal for improved acquisition strategies processes for United States Government vessels and submit such proposal to APNSA and the OMB Director for inclusion in the MAP. The proposal shall:

(a) have as its objective providing American shipbuilders with market forecasting needed to justify investments in infrastructure, workforce, and intellectual property to meet United States demand;

(b) include reforms recommended by the Secretary of Defense and the Secretary of Homeland Security related to:

(i) staff structure and innovations in acquisition strategies that will improve Federal vessel procurement; and

(ii) reductions of the layers of approval needed to execute, build, and improve the vessel acquisition process, including by utilizing commercial acquisition and modular design practices that reduce complexity and prevent frequent changes to ship designs;

(c) identify for elimination excessive requirements, including the number of Government reviews and onerous regulations that add to ship design and acquisition delays; and

(d) consider use of broad industry standards and American-made readily available parts and components to drive up production volume while shrinking the iterative design process, which historically has led to delays and cost increases.

Sec. 16. Improve Government Efficiency. Within 90 days of the date of this order, the Department of Government Efficiency shall begin a separate review of the Department of Defense and Department of Homeland Security vessel procurement processes and deliver a proposal to the President, through the APNSA for inclusion in the MAP, to improve the efficiency and effectiveness of these processes.

Sec. 17. Increase the Fleet of Commercial Vessels Trading Internationally under the flag of the United States. Within 180 days of the date of this order, in conjunction with the formulation of the President's Budget and consistent with the findings of the report required under section 12 of this section, the Secretary of Transportation shall in coordination with the Secretary of Defense, deliver a legislative proposal to the APNSA and OMB Director for inclusion in the MAP that:

(a) is designed to ensure that adequate cubed footage and gross tonnage of United States-flagged commercial vessels can be called upon in times of crisis, while limiting the likelihood of Government waste;

(b) provides incentives that will:

(i) grow the fleet of United States built, crewed, and flagged vessels that serve as readily deployable assets for national security purposes; and

(ii) increase the participation of United States commercial vessels in international trade; and

(c) enhances existing subsidies to include coverage of certain construction or modification costs in a manner designed to enhance incentives for the commercial shipping industry to operate militarily useful ships that trade internationally under the flag of the United States.

Sec. 18. Ensure the Security and Leadership of Arctic Waterways. Within 90 days of the date of this order, the Secretary of Defense, in consultation with the Secretary of Transportation, the Secretary of Homeland Security, and the Commandant of the Coast Guard shall develop a strategy that identifies the vision, goals, and objectives necessary to secure arctic waterways and enable American prosperity in the face of evolving arctic security challenges and associated risks, and deliver it to the APNSA for inclusion in the MAP.

Sec. 19. Shipbuilding Review. Within 45 days of the date of this order, the Secretary of Defense, the Secretary of Commerce, the Secretary of Transportation, and the Secretary of Homeland Security shall conduct a review of shipbuilding for United States Government use and submit a report to the President with recommendations to increase the number of participants and competitors within United States shipbuilding, and to reduce cost overruns and production delays for surface, subsurface, and unmanned programs. This report must include separate itemized and prioritized lists of recommendations for the United States Army, Navy, and Coast Guard and shall be included in the MAP.

Sec. 20. Deregulatory Initiatives. Within 30 days of the date of this order, the Secretary of Defense, the Secretary of Transportation, and the Secretary of Homeland Security shall conduct a review of their regulations, and implementation thereof, across all components pertaining to the domestic commercial maritime fleet and maritime port access to determine where each agency may be able to deregulate within the framework of Executive Order 14192 of January 31, 2025 (Unleashing Prosperity Through Deregulation), to reduce unnecessary costs and clear barriers to emerging technology and related efficiencies. Each agency will submit a report of its findings to the OMB Director and to the APNSA for inclusion in the MAP.

Sec. 21. Inactive Reserve Fleet. Within 90 days of the date of this order, the Secretary of Defense shall conduct a review and issue guidance on the funding, retention, support, and mobilization of a robust inactive reserve fleet. This review and guidance shall be delivered to the APNSA for inclusion in the MAP.

Sec. 22. Coordination. Unless otherwise specified in this order, the plans, reports, reviews, and recommendations that are required to be submitted to the President by this order shall be developed through interagency coordination in accordance with National Security Presidential Memorandum 1 of January 20, 2025 (Organization of the National Security Council and Subcommittees), or its successors.

Sec. 23. Severability. If any provision of this order, or the application of any provision to any person or circumstance, is held to be invalid, the remainder of this order and the application of its provisions to any other persons or circumstances shall not be affected thereby.

Sec. 24. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 9, 2025.

[FR Doc. 2025-06465

Filed 4-14-25; 8:45 am]

Billing code 3395-F4-P